DEPARTMENT OF HEALTH AND HUMAN SERVICES

Health Resources and Services Administration

Charter Renewal for the Advisory Committee on Infant and Maternal Mortality

AGENCY: Health Resources and Services Administration (HRSA), Department of Health and Human Services.

ACTION: Notice.

SUMMARY: In accordance with the Federal Advisory Committee Act, the Department of Health and Human Services is giving notice that the Advisory Committee on Infant and Maternal Mortality (ACIMM or Committee) is renewed. The effective date of the charter renewal is September 30, 2023.

FOR FURTHER INFORMATION CONTACT: Vanessa Lee, MPH, Designated Federal Official, Maternal and Child Health Bureau, HRSA, 5600 Fishers Lane, Room 18N84, Rockville, Maryland 20857; 301-443-0543; or VLee1@hrsa.gov.

SUPPLEMENTARY INFORMATION: ACIMM is authorized by section 222 of the Public Health Service Act (42 U.S.C. 217a), as amended. The Committee is governed by provisions of Public Law 92-463, as amended (5 U.S.C. 10), which sets forth standards for the formation and use of Advisory Committees. ACIMM advises the Secretary of Health and Human Services on department activities, partnerships, policies, and programs directed at reducing infant mortality, maternal mortality and severe maternal morbidity, and improving the health status of infants and women before, during, and after pregnancy. The Committee provides advice on how best to coordinate Federal, State, local, Tribal, and Territorial governmental efforts designed to improve infant mortality, related adverse birth outcomes, and maternal health, as well as influence similar efforts in the private and voluntary sectors. The Committee provides guidance and recommendations on the policies, programs, and resources required to address the disparities and inequities in infant mortality, related adverse birth outcomes and maternal health outcomes, including maternal mortality and severe maternal morbidity. With its focus on underlying causes of the disparities and inequities seen in birth outcomes for women and infants, the Committee advises the Secretary of Health and Human Services on the health, social, economic, and environmental factors contributing to the inequities and proposes structural, policy and/or systems level changes.

The charter renewal for ACIMM was approved on September 8, 2023. The filing date is September 30, 2023. Renewal of the ACIMM charter gives authorization for the committee to operate until September 30, 2025.

A copy of the ACIMM charter is available on the ACIMM website at https://www.hrsa.gov/advisory-committees/infant-mortality/index.html. A copy of the charter also can be obtained by accessing the FACA database that is maintained by the Committee Management Secretariat under the General Services Administration. The website address for the FACA database is http://www.facadatabase.gov/.

Maria G. Button,
Director, Executive Secretariat.

[FR Doc. 2023-21716 Filed 9-29-23; 8:45 am]

BILLING CODE 4165-15-P